DEPARTMENT OF THE INTERIOR

Bureau of Indian Affairs

Indian Gaming

AGENCY: Bureau of Indian Affairs, Interior.

ACTION: Notice of Approved Class III Tribal-State Compact.

SUMMARY: This notice publishes approval of the Compact between the Shoshone-Paiute Tribes and the State of Nevada.

DATES: Effective Date: July 6, 2010.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. The duration of the compact is four years calculated from the date of commencement of gaming. The compact permits the Tribe to offer the full gamut of casino-style gaming authorized by the Nevada Gaming Commission and/or lawfully permitted to be played by the State.

Dated: June 28, 2010.
Paul Tsosie,
Chief of Staff, Office of the Assistant Secretary—Indian Affairs.

[FR Doc. 2010-16214 Filed 7-2-10; 8:45 am]

BILLING CODE 4310-4N-P